DEPARTMENT OF COMMERCE

National Oceanic and Atmospheric Administration

RIN 0648-XK23

Marine Mammals; File No. 10028

AGENCY: National Marine Fisheries Service (NMFS), National Oceanic and Atmospheric Administration (NOAA), Commerce.

ACTION: Notice; issuance of permit.

SUMMARY: Notice is hereby given that Mystic Aquarium, 55 Coogan Boulevard, Mystic, CT 06355 (Dr. Lisa Mazzaro, Principal Investigator) has been issued a permit to obtain stranded, releasable pinnipeds (up to eight otariids and 20 phocids) from the National Marine Mammal Stranding Response Program for the purposes of public display.

ADDRESSES: The application and related documents are available for review upon written request or by appointment in the following office(s):

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9300; fax (978)281-9394.

FOR FURTHER INFORMATION CONTACT: Jennifer Skidmore or Amy Sloan, (301)713-2289.

SUPPLEMENTARY INFORMATION: On August 17, 2007, notice was published in the Federal Register (72 FR 46212) that a request for a public display permit to obtain releasable rehabilitated pinnipeds (a maximum of eight otariids and 20 phocids) had been submitted by the above-named organization. Up to six females and two males of each of the following species are requested to be obtained from cooperating rehabilitation centers for the purposes of public display at Mystic Aquarium: California sea lion (Zalophus californianus), harbor seal (Phoca vitulina), gray seal (Halichoerus grypus), harp seal (Phoca groenlandica) and hooded seal (Cystophora cristata). The requested permit has been issued under the authority of the Marine Mammal Protection Act of 1972, as amended (MMPA; 16 U.S.C. 1361 et seq.), and the regulations governing the taking and importing of marine mammals (50 CFR part 216).

The NOAA environmental review procedure provides that public display permits are generally categorically excluded from the National Environmental Policy Act of 1969 (NEPA; 42 U.S.C. 4321 et seq.) requirements to prepare an environmental assessment (EA) or environmental impact statement (EIS). However, because of the public interest and comments on this application during the public comment period, NMFS determined that an EA was warranted. An EA was prepared on the issuance of the proposed permit, resulting in a finding of no significant impact.

Dated: November 24, 2008.
P. Michael Payne,
Chief, Permits, Conservation and Education Division, Office of Protected Resources, National Marine Fisheries Service.

[FR Doc. E8-28467 Filed 11-28-08; 8:45 am]

BILLING CODE 3510-22-S